DEPARTMENT OF HEALTH AND HUMAN SERVICES

National Institutes of Health

Statement of Organization, Functions, and Delegations of Authority

Part N, National Institutes of Health, of the Statement of Organization, Functions, and Delegations of Authority for the Department of Health and Human Services (HHS) (40 FR 22859, May 27, 1975, as amended most recently at 69 FR 64081, November 3, 2004, and redesignated from Part HN as Part N at 60 FR 56606, November 9, 1995), is amended as set forth below to reflect the reorganization of the Office of the Director, NIH, by (1) establishing the Office of Portfolio Analysis and Strategic Initiatives (OPASI); (2) establishing three branches within OPASI: the Division of Resource Development and Analysis, the Division of Strategic Coordination, and the Division of Evaluation and Systematic Assessments; (3) transferring the NIH Roadmap Initiative function from the immediate Office of the Director into OPASI; (4) transferring the Office of Evaluation from the Office of Science Policy (OSP) into OPASI; and (5) transferring certain functions of the Office of Science Policy and Planning (OSPP), OSP, into OPASI and revising the functional statement of the OSPP. OPASI will identify and integrate information to support the planning and implementation of trans-NIH initiatives.

Section N-B, Organization and Functions, under the heading Office of the Director (NA, formerly HNA), is amended as follows:

(1) Under the heading Office of the Director (NA, formerly HNA), insert the following:

Office of Portfolio Analysis and Strategic Initiatives (NAU, formerly HNAU). Supports regular trans-NIH scientific planning and initiatives and the successful and adaptive priority-setting process for identifying areas of scientific and health improvement opportunities.

Division of Resource Development and Analysis (NAU2, formerly HNAU2). (1) Uses resources (databases, analytic tools, and methodologies) and develops specifications for new resources, when needed, to conduct assessments based on NIH and other databases in support of portfolio analyses and priority setting in scientific areas of interest across NIH; (2) serves as a resource for portfolio management at the programmatic level; and (3) ensures that NIH addresses important areas of emerging scientific opportunities and public health challenges effectively.

Division of Strategic Coordination (NAU3, formerly HNAU3). (1) Integrates information and develops recommendations to inform the agency's priority-setting and decisionmaking processes with respect to strategic initiatives; (2) addresses exceptional scientific opportunities and emerging public health needs; (3) equips the NIH Director with the information needed to allocate resources effectively for trans-NIH efforts; and (4) identifies trans-NIH initiatives for consideration and evaluation by both outside advisors and NIH leadership.

Division of Evaluation and Systematic Assessments (NAU4, formerly HNAU4). Plans, conducts, coordinates, and supports program evaluations, including, but not limited to, Institute and Center (IC)-specific program and project evaluations; trans-NIH evaluations, including NIH Roadmap initiatives; and systematic assessments required by the Government Performance and Results Act (GPRA) and the OMB Program Assessment Rating Tool (PART).

(2) Under the heading Office of the Director (NA, formerly HNA), Office of Science Policy (NA6, formerly HNA6) delete the Office of Evaluation (NA6B, formerly HNA6B) in its entirety.

(3) Under the heading Office of the Director (NA, formerly HNA), Office of Science Policy (NA6, formerly HNA6), replace the Office of Science Policy and Planning (NA66, formerly HNA66) with the following:

Office of Science Policy and Planning (NA66, formerly HNA66). (1) Serves as the principal resource for science policy, analysis, and development at NIH on issues of significance to the agency and the medical research community; (2) addresses crosscutting science policy issues and drafts the agency approach and position; (3) provides leadership in developing major analyses of broad planning issues affecting the programs and policies of the major program components of NIH; (4) participates in the development of new policy and program initiatives in emerging research areas; (5) plans and organizes major conferences involving the interface between science and public policy; (6) prepares special studies and reports required by the OD/NIH; (7) serves as principal staff resource in the OD/NIH for identifying and reporting on agency research opportunities and accomplishments; (8) conducts directly and through contractors, economic analyses of key programs and policy issues anticipated to be relevant to emerging planning needs of NIH; and (9) provides ad hoc and continuing staff assistance on a wide range of substantive topics to the OD/NIH.

Delegations of Authority: All delegations and redelegations of authority to officers and employees of NIH that were in effect immediately prior to the effective date of this amendment and are consistent with this amendment shall continue in effect, pending further redelegation.

Dated: September 22, 2005.
Elias A. Zerhouni,
Director, National Institutes of Health.

[FR Doc. 05-19371 Filed 9-27-05; 8:45 am]

BILLING CODE 4140-01-P